DEPARTMENT OF LABOR

Mine Safety and Health Administration

Proposed Information Collection Request Submitted for Public Comment and Recommendations; Health Standards for Diesel Particulate Matter Exposure (Underground Coal Mines) 30 CFR 75.1915/72.503, 72.510, 72.520 and Part 7 or Part 36 as a Result of § 72.500

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 [44 U.S.C. 3506(c)(2)(A)]. This program helps to assure that requested data can be provided in the desired format, reporting burden (time and financial resources) is minimized, collection instruments are clearly understood, and the impact of collection requirements on respondents can be properly assessed. Currently, the Mine Safety and Health Administration (MSHA) is soliciting comments concerning the extension of the information collection for 30 CFR 75.1915/72.503, 72.510, 72.520 and Part 7 or Part 36 as a result of § 72.500.

DATES: All comments must be received by midnight Eastern Daylight Savings Time on November 15, 2010.

ADDRESSES: Comments must clearly be identified with the rule title and may be submitted to MSHA by any of the following methods:

(1) Electronic mail: zzMSHA-Comments@dol.gov.

(2) Facsimile: (202) 693-9441.

(3) Regular Mail: MSHA, Office of Standards, Regulations, and Variances, 1100 Wilson Blvd., Room 2350, Arlington, VA 22209-3939.

(4) Hand Delivery or Courier: MSHA, Office of Standards, Regulations, and Variances, 1100 Wilson Blvd., Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voicemail), 202-693-9441 (facsimile).

SUPPLEMENTARY INFORMATION:

I. Background

Section 101(a) of the Federal Mine Safety and Health Act of 1977 (Mine Act), provides that the Secretary of Labor shall develop, promulgate, and revise as may be appropriate, improved mandatory health or safety standards for the protection of life and prevention of injuries in coal or other mines. In addition, Section 103(h) of the Mine Act mandates that mine operators keep any records and make any reports that are reasonably necessary for the Mine Safety and Health Administration to perform its duties under the Mine Act.

MSHA established standards and regulations for diesel-powered equipment in underground coal mines that provide additional important protection for coal miners who work on and around diesel-powered equipment. The standards were designed to reduce the risks to underground coal miners of serious health hazards associated with exposure to high concentrations of diesel particulate matter. The standards contain information collection requirements for underground coal mine operators in Health Standards for Diesel Particulate Matter Exposure (Underground Coal Mines) 30 CFR 75.1915/72.503, 72.510, 72.520 and Part 7 or Part 36 as a result of § 72.500.

• After-treatment devices installed on diesel-powered equipment must be maintained according to manufacturer specifications. Since these devices are not usually on diesel machinery, maintenance personnel have to be trained to maintain them.

• Persons required to perform maintenance on diesel-powered equipment must successfully complete a training and qualification program in accordance with § 75.1915(a). The mine operator must maintain a copy of the required training and qualification program and a record of the names of all qualified persons under the program.

• Underground coal mine operators are required to keep a record of those trained for one year.

• Underground coal mine operators exposed to diesel emissions are required to be trained annually. The training must include: Health risks associated with exposure to diesel particulate matter; methods used in the mine to control diesel particulate concentrations; identification of the personnel responsible for maintaining those controls; and actions miners must take to assure controls operate as intended.

• Underground coal mine operators are required to keep a record of the training for one year.

• Underground coal mine operators are required to maintain an inventory of diesel-powered equipment units, together with a list of information about any unit's emission control or filtration system. The list must be updated within 7 calendar days of any change.

• As a result of § 72.503(d), which requires all permissible equipment to have after-treatment or filtration devices, diesel manufacturers are required to amend existing diesel machine approval applications under Part 7 or Part 36. Few machine approvals are approved under Part 36, while most machine approvals are approved under Part 7.

II. Desired Focus of Comments

MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the proposed information collection request can be obtained by contacting the employee listed in the FOR FURTHER INFORMATION CONTACT section of this notice, or viewed on the Internet by selecting “Rules & Regs”, and then selecting “FedReg.Docs”. On the next screen, select “Paperwork Reduction Act Supporting Statement” to view documents supporting the Federal Register notice.

III. Current Actions

This request for collection of information contains notification and recordkeeping provisions for the Proposed Information Collection Request Submitted for Public Comment and Recommendations; Health Standards for Diesel Particulate Matter Exposure (Underground Coal Mines) 30 CFR 75.1915/72.503, 72.510, 72.520 and Part 7 or Part 36 as a result of § 72.500. MSHA does not intend to publish the results from this information collection and is not seeking approval to either display or not display the expiration date for the OMB approval of this information collection.

There are no certification exceptions identified with this information collection and the collection of this information does not employ statistical methods.

Type of Review: Extension

Agency: Mine Safety and Health Administration

OMB Number: 1219-0124

Frequency: On Occasion

Affected Public: Business or other for-profit

Cost to Federal Government: $5,040

Total Burden Respondents: 165

Total Number of Responses: 165

Total Burden Hours: 623

Total Hour Burden Cost (operating/maintaining): $6,425.39

Comments submitted in response to this notice will be summarized and/or included in the request for Office of Management and Budget approval of the information collection request; they will also become a matter of public record.

Patricia W. Silvey,
Director, Office of Standards, Regulations, and Variances.

[FR Doc. 2010-23085 Filed 9-15-10; 8:45 am]

BILLING CODE 4510-43-P